DEPARTMENT OF HOMELAND SECURITY

Coast Guard

33 CFR Part 165

[Docket No. USCG-2011-0148]

RIN 1625-AA00

Safety Zone; Rudey/Braga Wedding Fireworks Display, Cos Cob Harbor, Greenwich, CT

AGENCY: Coast Guard, DHS.

ACTION: Notice of proposed rulemaking.

SUMMARY: The Coast Guard proposes to establish a temporary safety zone around a fireworks display in Cos Cob Harbor, Greenwich, CT, located within the Captain of the Port (COTP) Sector Long Island Sound zone. This action is necessary to provide for the safety of life on navigable waters during the event. Entering into, transiting through, mooring or anchoring within this zone is prohibited unless authorized by the COTP Sector Long Island Sound.

DATES: Comments and related material must be received by the Coast Guard on or before June 2, 2011.

Requests for public meetings must be received by the Coast Guard on or before May 18, 2011.

ADDRESSES: You may submit comments identified by docket number USCG-2011-0148 using any one of the following methods:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this proposed rule, call or e-mail Chief Petty Officer Hugh Hamilton, Prevention Department, Coast Guard Sector Long Island Sound, 203-468-4459, e-mail hugh.m.hamilton@uscg.mil. If you have questions on viewing or submitting material to the docket, call Renee V. Wright, Program Manager, Docket Operations, telephone 202-366-9826.

SUPPLEMENTARY INFORMATION:

Public Participation and Request for Comments

We encourage you to participate in this rulemaking by submitting comments and related materials. All comments received will be posted without change to http://www.regulations.gov and will include any personal information you have provided.

Submitting Comments

If you submit a comment, please include the docket number for this rulemaking (USCG-2011-0148), indicate the specific section of this document to which each comment applies, and provide a reason for each suggestion or recommendation. You may submit your comments and material online (via http://www.regulations.gov) or by fax, mail, or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an e-mail address, or a telephone number in the body of your document so that we can contact you if we have questions regarding your submission.

To submit your comment online, go to http://www.regulations.gov, click on the “submit a comment” box, which will then become highlighted in blue. In the “Document Type” drop down menu select “Proposed Rule” and insert “USCG-2011-0148” in the “Keyword” box. Click “Search” then click on the balloon shape in the “Actions” column. If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

Viewing Comments and Documents

To view comments, as well as documents mentioned in this preamble as being available in the docket, go to http://www.regulations.gov, click on the “read comments” box, which will then become highlighted in blue. In the “Keyword” box insert “USCG-2011-0148” and click “Search.” Click the “Open Docket Folder” in the “Actions” column. You may also visit the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

Public Meeting

We do not now plan to hold a public meeting. But you may submit a request for one on or before May 18, 2011 using one of the four methods specified under ADDRESSES. Please explain why you believe a public meeting would be beneficial. If we determine that one would aid this rulemaking, we will hold one at a time and place announced by a later notice in the Federal Register.

Basis and Purpose

The legal basis for the proposed rule is 33 U.S.C. 1226, 1231, 46 U.S.C. Chapter 701, 3306, 3703; 50 U.S.C. 191, 195; Public Law 107-295, 116 Stat. 2064; and Department of Homeland Security Delegation No. 0170.1, which collectively authorize the Coast Guard to define safety zones.

This rule is necessary to ensure the safety of vessels and spectators from hazards associated with fireworks events. The COTP Long Island Sound has determined that fireworks events in close proximity to the navigational channel and Special Anchorage Area pose a significant risk to public safety and property. Such hazards include obstructions to the waterway that may cause marine casualties and the explosive danger of fireworks and debris falling into the water that may cause death or serious bodily harm. Establishing a safety zone around the location of this fireworks event will help ensure the safety of persons and property and help minimize the associated risks.

Discussion of Rule

This safety zone is necessary to ensure the safety of participants, spectators, and vessels during the Rudey and Braga Fireworks event in the COTP Long Island Sound zone as this event may pose a hazard to the public.

The Rudey and Braga families will be hosting a fireworks display as part of a wedding celebration in Greenwich, CT, directly off a private estate in Cos Cob Harbor.

This rule proposes to create a 600 foot safety zone on the navigable waters around the launch site located at approximately 41°00′59″ N, 073°36′05″ W. The safety zone will be in place 30 minutes prior to the event until 30 minutes after the event concludes.

The particular size of the proposed safety zone established for this event was evaluated in accordance with Navigational and Vessel Inspection Circular (NVIC) 07-02; Marine Safety at Firework Displays; the National Fire Protection Association Standard 1123, Code for Fireworks Displays (30-yard distance per inch of diameter of the fireworks mortars), and other pertinent regulations and publications.

Regulatory Analyses

We developed this proposed rule after considering numerous statutes and executive orders related to rulemaking. Below we summarize our analyses based on 13 of these statutes or executive orders.

Regulatory Planning and Review

This proposed rule is not a significant regulatory action under section 3(f) of Executive Order 12866, Regulatory Planning and Review, and does not require an assessment of potential costs and benefits under section 6(a)(3) of that Order. The Office of Management and Budget has not reviewed it under that Order.

The Coast Guard determined that this rule is not a significant regulatory action for the following reasons: The regulated area will be of limited duration, there is very little impingement onto the navigable waterway, and the event is designed to avoid, to the extent possible, deep draft, fishing, and recreational boating traffic routes. Persons and/or vessels may enter a safety zone if they obtain permission from the Coast Guard COTP, Long Island Sound.

Small Entities

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

The Coast Guard certifies under 5 U.S.C. 605(b) that this proposed rule would not have a significant economic impact on a substantial number of small entities. Persons and/or vessels may enter this safety zone if they obtain permission from the Coast Guard COTP, Long Island Sound.

This proposed rule may affect the following entities, some of which might be small entities: The owners or operators of vessels intending to transit or anchor in a portion of the Cos Cob Harbor from 9 p.m. to 10:15 p.m. on June 25th, 2011.

This proposed safety zone would not have a significant economic impact on a substantial number of small entities for the following reasons. This temporary safety zone would be activated and enforced for only 1 hour and 15 minutes in an area where vessel traffic is expected to be minimal. Vessel traffic could pass safely around the safety zone through the navigational channel. Persons and/or vessels may enter a safety zone if granted permission from the Coast Guard COTP, Long Island Sound.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Public Law 104-121), we want to assist small entities in understanding this proposed rule so that they can better evaluate its effects on them and participate in the rulemaking. If the rule would affect your small business, organization, or governmental jurisdiction and you have questions concerning its provisions or options for compliance, please contact Chief Petty Officer Hugh Hamilton, Prevention Department, Coast Guard Sector Long Island Sound, (203) 468-4459 or e-mail hugh.m.hamilton@uscg.mil. The Coast Guard will not retaliate against small entities that question or complain about this proposed rule or any policy or action of the Coast Guard.

Collection of Information

This proposed rule would call for no new collection of information under the Paperwork Reduction Act of 1995 (44 U.S.C. 3501-3520.).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such expenditure, we do discuss the effects of this rule elsewhere in this preamble.

Taking of Private Property

This proposed rule would not cause a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This rule is not an economically significant rule and would not create an environmental risk to health or risk to safety that might disproportionately affect children.

Indian Tribal Governments

This proposed rule does not have tribal implications under Executive Order 13175, Consultation and Coordination with Indian Tribal Governments, because it would not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Department of Homeland Security Management Directive 023-01 and Commandant Instruction M16475.lD, which guide the Coast Guard in complying with the National Environmental Policy Act of 1969 (NEPA) (42 U.S.C. 4321-4370f), and have made a preliminary determination that this action is one of a category of actions which do not individually or cumulatively have a significant effect on the human environment. This rule is categorically excluded, under figure 2-1, paragraph (34)(g), of the Instruction. This proposed rule involves the establishment of a safety zone. A preliminary environmental analysis checklist supporting this determination is available in the docket where indicated under ADDRESSES. We seek any comments or information that may lead to the discovery of a significant environmental impact from this proposed rule.

List of Subjects in 33 CFR Part 165

Harbors, Marine safety, Navigation (water), Reporting and recordkeeping requirements, Security measures, Waterways.

For the reasons discussed in the preamble, the Coast Guard proposes to amend 33 CFR part 165 as follows:

PART 165—REGULATED NAVIGATION AREA AND LIMITED ACCESS AREAS

1. The authority citation for part 165 continues to read as follows:

Authority: 33 U.S.C. 1226, 1231; 46 U.S.C. Chapters 701, 3306, 3703; 50 U.S.C. 191, 195; 33 CFR 1.05-1, 6.04-1, 6.04-6, and 160.5; Pub. L. 107-295, 116 Stat. 2064; Department of Homeland Security Delegation No. 0170.1.

2. Add § 165.T01-0148 to read as follows:

§ 165.T01-0148 Safety Zone; Rudey/Braga Wedding Fireworks Display, Cos Cob Harbor, Greenwich, CT.

(a) Location. The following is a Safety Zone: All waters of Long Island Sound in Cos Cob Harbor within a 600-foot radius of the fireworks barge located in approximate position 41°00′59″ N, 073°36′05″ W.

(b) Notification. Coast Guard Sector Long Island Sound will cause notice of the enforcement of this temporary safety zone to be made by all appropriate means to affect the widest publicity among the effected segments of the public, including publication in the Local Notice to Mariners and Broadcast Notice to Mariners.

(c) Enforcement Period. This section will be enforced on 25 June, 2011, from 9 p.m. until 10:15 p.m.

(d) Regulations. (1) The general regulations contained in 33 CFR 165.23 apply. During the enforcement period, entering into, transiting through, mooring or anchoring within this safety zone is prohibited unless authorized by the Captain of the Port or the designated on-scene representatives.

(2) This temporary safety zones is closed to all vessel traffic, except as may be permitted by the Captain of the Port or the designated on-scene representative. The COTP or the designated on scene representative may be contacted via VHF Channel 16 or by telephone at (203) 468-4404.

(3) The “on-scene representative” of the COTP Long Island Sound is any Coast Guard commissioned, warrant, or petty officer who has been designated by the COTP to act on his behalf. The on-scene representative of the COTP Long Island Sound may be aboard either a Coast Guard or Coast Guard Auxiliary vessel.

(4) Vessel operators given permission to enter or operate in the safety zone must comply with all directions given to them by the Captain of the Port or the designated on-scene representative.

(5) The Captain of the Port or the designated on-scene representative may direct the delay, cancellation, or relocation of the specific area to be regulated within the generally described locations listed to ensure safety and compliance with environmental laws. Such changes in implementation of the safety zone may be required as a result of factors that could affect their associated marine events such as weather, vessel traffic density, spectator activities, participant behavior or potential environmental impacts.

Dated: April 12, 2011.
J.M. Vojvodich,
Captain, U.S. Coast Guard, Captain of the Port Long Island Sound.

[FR Doc. 2011-10664 Filed 5-2-11; 8:45 am]

BILLING CODE 9110-04-P